DEPARTMENT OF THE INTERIOR

Fish and Wildlife Service

[FWS-HQ-ES-2022-N016; FF09E41000 223 FXES11130900000]

Endangered and Threatened Species; Issuance of Enhancement of Survival and Incidental Take Permits for Safe Harbor Agreements, Candidate Conservation Agreements, Habitat Conservation Plans, and Recovery Activities, January 1, 2021, Through December 31, 2021

AGENCY: Fish and Wildlife Service, Interior.

ACTION: Notice.

SUMMARY: We, the U.S. Fish and Wildlife Service, in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, habitat conservation plans, and recovery activities for calendar year 2021.

FOR FURTHER INFORMATION CONTACT: For general information about the ESA permit process, contact Amanda Murnane, via phone at 703-358-2469 or viaemailatamanda_murnane@fws.gov. For information on specific permits, see the contact information below in Permits Issued. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, in accordance with section 10(d) of the Endangered Species Act of 1973 (ESA; 16 U.S.C. 1531 et seq.), as amended, provide a list to the public of the permits issued under sections 10(a)(1)(A) and 10(a)(1)(B) of the ESA. With some exceptions, the ESA prohibits take of listed species unless a Federal permit is issued that authorizes the taking, or the take is exempted through section 7 of the ESA. Under section 10(a)(1)(A) of the ESA, we issue enhancement of survival permits in conjunction with candidate conservation agreements with assurances (CCAAs) and safe harbor agreements (SHAs). Section 10(a)(1)(A) also authorizes recovery permits. Section 10(a)(1)(B) permits authorize take of listed species incidental to otherwise lawful activities associated with habitat conservation plans (HCPs). We provide this list to the public as a summary of our permit issuances for CCAAs, SHAs, HCPs, and recovery permits for calendar year 2021.

Background

Under the authority of section 10(a)(1)(A) of the ESA, we have issued enhancement of survival permits to conduct activities that provide a conservation benefit for endangered or threatened species, or for unlisted species should they become listed in the future, in response to permit applications that we received in conjunction with a SHA or a CCAA.

Recovery permits have been issued under ESA section 10(a)(1)(A) to allow for take as part of activities intended to foster the recovery of listed species, typically for scientific research in order to understand better the species' long-term survival needs.

Under ESA section 10(a)(1)(B), we may issue permits for any taking otherwise prohibited by ESA section 9 if such taking is incidental to, and not the purpose of, carrying out an otherwise lawful activity (known as an incidental take permit (ITP)) and the permit applicant submits a habitat conservation plan (HCP) that meets the permit issuance criteria under section 10(a)(2)(B). Typically, applicants seek an ITP to conduct activities such as residential and commercial development, infrastructure development or maintenance, and energy development projects that range in scale from small to landscape-level planning efforts.

The permits associated with SHAs, CCAAs, HCPs, and recovery activities that we issued between January 1 and December 31, 2021, are listed below.

Under section 10(a)(1)(A), we issued each permit only after we determined that it was applied for in good faith; that granting the permit would not be to the disadvantage of the listed species, or to the unlisted species should it be listed; that the proposed activities would benefit the recovery or the enhancement of survival of the species; and that the terms and conditions of the permits were consistent with the purposes and policy set forth in the ESA.

Under section 10(a)(1)(B), we issued permits only after we determined that the applicant was eligible and had submitted a complete application and HCP that fully met the permit issuance criteria consistent with section 10(a)(2)(B).

Permits Issued

Region 1 (Hawaii, Idaho, Oregon (Except for the Klamath Basin), Washington, American Samoa, Commonwealth of the Northern Mariana Islands, Guam, and the Pacific Trust Territories)

The following permits, sorted by type of permit or agreement and date issued in the table below, were applied for and issued by the Regional office responsible for section 10 permitting in the States and territories listed above.

HCPs, CCAAs, and SHAs

For more information about any of the following HCP, CCAA, or SHA permits, contact the HCP, CCAA, or SHA permit coordinator at ITEOSpermitsR1ES@fws.gov or by phone at 503-231-6131.

Recovery Permits

For more information about any of the following recovery permits, contact the Recovery Permit Coordinator by email at PermitsR1ES@fws.gov or by telephone at 503-231-6131.

Permit No. | Version No. | Permit type | Permittee | Date issued
79857D | 1 | CCAA | Siskiyou Timberlands, LLC | 6/14/2021
30687A | 1 | HCP | Oregon Parks and Recreation Department | 5/6/2021
PER0010780 | 0 | HCP | Puget Western, Inc. | 5/12/2021
01054D | 0 | HCP | City of Tumwater Public Works Department | 5/12/2021
PER0012896 | 0 | HCP | Lorraine Tveten | 6/3/2021
81283D | 0 | HCP | Puget Sound Energy | 11/18/2021
82106B | 1 | Recovery | NOAA Fisheries-Northwest Fisheries Science Center | 1/4/2021
76800D | 0 | Recovery | George Fiedler | 1/12/2021
PER0003630 | 0 | Recovery | Collin A. Eagles-Smith | 3/18/2021
PER0004312 | 0 | Recovery | Cramer Fish Sciences | 3/23/2021
38768B | 3 | Recovery | Micronesian Environmental Services | 4/8/2021
PER0008917 | 0 | Recovery | Institute for Applied Ecology | 4/14/2021
89863B | 4 | Recovery | Oregon State University | 4/23/2021
PER0009546 | 0 | Recovery | Washington State University, Vancouver | 5/19/2021
82107B | 1 | Recovery | Mt. Hood National Forest | 5/19/2021
041672 | 4 | Recovery | U.S. Army Corps of Engineers, Portland District | 6/17/2021
28609D | 1 | Recovery | USDA, APHIS, Wildlife Services | 6/17/2021
62696C | 1 | Recovery | Assured Bio Labs, LLC | 6/23/2021
80538A | 2 | Recovery | H.T. Harvey & Associates | 6/23/2021
PER0011765 | 0 | Recovery | Malheur National Forest (Fisheries Monitoring Program) | 7/1/2021
844503 | 9 | Recovery | Burns Paiute Tribe | 7/1/2021
91338B | 1 | Recovery | Bureau of Land Management, Idaho | 7/26/2021
77073D | 1 | Recovery | Anindo Choudhury | 7/29/2021
63568A | 2 | Recovery | Jason Clinch | 7/29/2021
PER0007997 | 0 | Recovery | UW Botanic Gardens Rare Care Program | 8/23/2021
PER0016959 | 0 | Recovery | Washington State University/Michael Phelps | 8/23/2021
66384A | 2 | Recovery | Idaho Department of Fish and Game | 8/30/2021
PER0011813 | 0 | Recovery | Yakama Nation Fisheries | 8/30/2021
PER0016984 | 0 | Recovery | U.S. Bureau of Reclamation, Snake River Area Office | 9/1/2021
38362D | 1 | Recovery | Bureau of Reclamation | 9/23/2021
PER0021508 | 0 | Recovery | Environmental Assessment Services, LLC | 10/13/2021
45531B | 2 | Recovery | Hawaii Division of Forestry and Wildlife | 10/18/2021
PER0009803 | 0 | Recovery | SR3 Sealife Response, Rehab and Research | 11/3/2021
PER0014798 | 0 | Recovery | Montana Fish, Wildlife, and Parks | 11/4/2021
61798A | 2 | Recovery | David Monnin | 11/8/2021
829250 | 10 | Recovery | Hawaii Wildlife Fund | 12/13/2021
PER0017028 | 0 | Recovery | Caribou-Targhee National Forest | 12/16/2021
PER0002633 | 0 | SHA | Rayonier Operating Company, LLC | 2/2/2021
PER0002775 | 0 | SHA | Sierra Pacific Land & Timber Company | 2/23/2021
PER0021971 | 0 | SHA | Scott Erion | 9/24/2021
67749D | 0 | SHA | Lincoln Soil and Water Conservation District | 9/28/2021

Region 2 (Arizona, New Mexico, Oklahoma, and Texas)

The following permits, sorted by type of permit or agreement and date issued in the table below, were applied for and issued by the Regional office responsible for section 10 permitting in the States listed above.

HCPs and CCAAs

For more information about any of the following HCP or CCAA permits, contact the HCP or CCAA Permit Coordinator by email at FW2_HCP_Permits@fws.gov or by telephone at 505-248-6651.

Recovery Permits

For more information about any of the following recovery permits, contact the Recovery Permit Coordinator by email at PermitsR2ES@fws.gov or by telephone at 505-248-6649.

Permit No. | Version No. | Permit type | Permittee | Date issued
PER0012434 | 0 | CCAA | Brazos River Authority | 6/1/2021
89394D | 0 | HCP | LPC Conservation, LLC | 9/17/2021
42289D | 0 | HCP | Oklahoma City & Oklahoma City Utilities Trust | 11/22/2021
PER0012435 | 0 | HCP | City Public Service Board, City of San Antonio, Texas | 12/10/2021
42739A | 0 | Recovery | Sea Life Arizona | 1/4/2021
83399D | 0 | Recovery | James Johnson | 1/4/2021
794593 | 3 | Recovery | Texas State Aquarium | 1/6/2021
821356 | 0 | Recovery | USGS Grand Canyon Monitoring & Research Center | 1/7/2021
819475 | 8 | Recovery | Bureau of Reclamation | 1/8/2021
79002D | 0 | Recovery | Texas Military Department | 1/15/2021
PER0002662 | 0 | Recovery | Toby Hibbitts | 1/21/2021
PER0002680 | 0 | Recovery | Kristina Chyn | 2/5/2021
PER0002988 | 0 | Recovery | Timothy H. Bonner | 2/11/2021
PER0003456 | 0 | Recovery | Tetra Tech, Inc | 2/24/2021
PER0003024 | 0 | Recovery | Zara Environmental LLC | 2/24/2021
PER0003492 | 0 | Recovery | Jacobs Engineering Group | 3/3/2021
PER0003958 | 0 | Recovery | Glenn Rink | 3/4/2021
PER0004042 | 0 | Recovery | aci Group, LLC | 3/8/2021
62552D | 0 | Recovery | Adam Petry | 3/12/2021
PER0004581 | 0 | Recovery | Sarah Weber | 3/12/2021
PER0004345 | 0 | Recovery | Texas Military Department | 3/12/2021
33889B | 0 | Recovery | Miami University | 3/12/2021
76960D | 0 | Recovery | Jodie Burns | 3/12/2021
60013D | 0 | Recovery | Bryce Owen | 3/12/2021
PER0005108 | 0 | Recovery | Cambrian Environmental | 3/18/2021
PER0005142 | 0 | Recovery | USGS Idaho Cooperative Fish & Wildlife Research Unit | 3/19/2021
TE815490 | 0 | Recovery | New Mexico Department of Game & Fish | 3/29/2021
PER0007832 | 0 | Recovery | The Peregrine Fund | 4/1/2021
73317B | 0 | Recovery | Charles Britt | 4/2/2021
59580A | 0 | Recovery | Rocky Mountain Ecology | 4/2/2021
174552 | 0 | Recovery | Animas Biological Studies, LLC | 4/2/2021
PER0009319 | 0 | Recovery | Oklahoma Aquarium | 4/7/2021
PER0008456 | 0 | Recovery | Eagle Environmental, Inc | 4/7/2021
PER0009225 | 0 | Recovery | Matthew Johnson | 4/8/2021
PER0009228 | 0 | Recovery | Canvas Natural Resource Solutions, LLC | 4/8/2021
83056D | 0 | Recovery | Johnny Morris' Wonders of Wildlife | 4/9/2021
PER0009326 | 0 | Recovery | Texas A&M Forest Service | 4/12/2021
PER0009523 | 0 | Recovery | SWCA Environmental Consultants | 4/13/2021
839848 | 3 | Recovery | USDA Forest Service-Carson National Forest | 4/19/2021
PER0010321 | 0 | Recovery | Harris Environmental Group | 4/28/2021
PER0008061 | 0 | Recovery | Ecoplan Associates, Inc | 4/30/2021
PER0010760 | 0 | Recovery | Gregor Hamilton | 4/30/2021
PER0011223 | 0 | Recovery | Marsh and Associates, LLC | 5/4/2021
PER0010109 | 0 | Recovery | David Davis | 5/4/2021
PER0011190 | 0 | Recovery | Oklahoma Water Resources Board | 5/4/2021
PER0011198 | 0 | Recovery | Oklahoma Conservation Commission | 5/4/2021
21840C | 1 | Recovery | Wildwood Environmental Credit Company | 5/5/2021
PER0008817 | 0 | Recovery | U.S. Forest Service Southwestern Regional office | 5/18/2021
PER0012660 | 0 | Recovery | The Peregrine Fund | 5/26/2021
PER0012490 | 0 | Recovery | USDA Forest Service Enterprise Program | 5/26/2021
PER0007529 | 0 | Recovery | USDA Forest Service, Gila National Forest | 5/28/2021
800611 | 2 | Recovery | SWCA, Inc | 6/3/2021
71795D | 0 | Recovery | Dan Pittenger | 6/3/2021
PER0013178 | 0 | Recovery | USDA FS-Kaibab National Forest | 6/3/2021
65027D | 1 | Recovery | McBride Biotracking, LLC | 6/9/2021
PER0013385 | 0 | Recovery | Sea Turtle, Inc | 6/9/2021
PER0013986 | 0 | Recovery | Balcones Canyonlands National Wildlife Refuge | 6/10/2021
PER0014013 | 0 | Recovery | Vaughn Weaver | 6/11/2021
819491 | 1 | Recovery | Ecosphere Environmental Services | 6/16/2021
PER0009587 | 0 | Recovery | Jean Marie L. Rieck | 6/25/2021
PER0007876 | 0 | Recovery | Cherokee Nation | 6/25/2021
794593 | 4 | Recovery | Texas State Aquarium | 7/6/2021
84338B | 2 | Recovery | Erica Lee | 7/9/2021
PER0004037 | 0 | Recovery | Lauren Dill | 7/12/2021
PER0011555 | 0 | Recovery | James Hall | 7/13/2021
TE40886B-3 | 0 | Recovery | Jennifer Zahratka | 7/15/2021
PER0012396 | 0 | Recovery | Philip Lavretsky | 7/23/2021
PER0018627 | 0 | Recovery | Fort Worth Zoo | 8/4/2021
87758D | 0 | Recovery | Underwing Biological, LLC | 8/9/2021
PER0013852 | 0 | Recovery | Kirsten Fuller | 8/10/2021
PER0013178 | 1 | Recovery | USDA FS-Kaibab National Forest | 8/13/2021
PER0019716 | 0 | Recovery | Wiebke Boeing | 8/18/2021
PER0009589 | 0 | Recovery | Parametrix | 8/20/2021
PER0020093 | 0 | Recovery | Sara Souther | 8/25/2021
69747D | 0 | Recovery | Sea Life US, LLC | 8/26/2021
62371D | 1 | Recovery | Salt River Project | 8/31/2021
PER0019440 | 0 | Recovery | James Mark Porter | 9/1/2021
50370D | 0 | Recovery | Helen M. Poulos | 9/2/2021
10107C | 2 | Recovery | Bandelier National Monument | 9/7/2021
13623D | 1 | Recovery | James Whitney | 9/7/2021
PER0011772 | 0 | Recovery | USDA Coronado National Forest | 9/10/2021
PER0012958 | 0 | Recovery | Frank Reichenbacher | 9/15/2021
PER0013851 | 0 | Recovery | New Mexico State Land Office | 9/15/2021
PER0020547 | 0 | Recovery | Sevenecoten, LLC | 9/15/2021
PER0011376 | 0 | Recovery | Brent Thompson | 9/15/2021
PER0012350 | 0 | Recovery | Zoe Davidson | 9/17/2021
PER0013378 | 0 | Recovery | Odysea Aquarium, LLC | 9/29/2021
PER0013181 | 0 | Recovery | Marjorie Wright | 9/29/2021
PER0020601 | 0 | Recovery | Adam Wood | 9/30/2021
829761 | 8 | Recovery | Bureau of Land Management-Las Cruces | 10/6/2021
94245B | 2 | Recovery | Jarrod Powers | 10/7/2021
PER0024337 | 0 | Recovery | East Foundation | 10/12/2021
00482C | 2 | Recovery | William Dillsaver | 10/18/2021
17907C | 2 | Recovery | Landhawk Consulting, LLC | 10/22/2021
094375 | 2 | Recovery | Azimuth Forestry Services, Inc | 11/22/2021
PER0024337 | 1 | Recovery | East Foundation | 11/23/2021
082496 | 1 | Recovery | Joint Base San Antonio | 12/1/2021
PER0012188 | 0 | Recovery | Crystal Datri | 12/2/2021
PER0009588 | 0 | Recovery | Bureau of Land Management-Tucson Field office | 12/16/2021
10107C | 3 | Recovery | Bandelier National Monument | 12/21/2021

Region 3 (Illinois, Indiana, Iowa, Michigan, Minnesota, Missouri, Ohio, and Wisconsin)

The following permits, sorted by type of permit or agreement and date issued in the table below, were applied for and issued by the Regional office responsible for section 10 permitting in the States listed above.

HCPs

For more information about any of the following HCP or CCAA permits, contact the HCP Permit Coordinator at permitsR3ES@fws.gov or by telephone at 612-713-5343.

Recovery Permits

For more information about any of the following recovery permits, contact the Recovery Permit Coordinator by email at PermitsR3ES@fws.gov or by telephone at 612-713-5343.

Permit No. | Version No. | Permit type | Permittee | Date issued
PER0003552 | 0 | HCP | Rosewater Wind Farm, LLC | 3/8/2021
PER0005513 | 0 | HCP | Nextera Energy Bluff Point, LLC | 3/25/2021
PER0005174 | 0 | HCP | Meadow Lake Wind Farm, LLC; Meadow Lake Wind Farm II, LLC; Meadow Lake Wind Farm IIII, LLC; Meadow Lake Wind Farm IV, LLC; Meadow Lake Wind Farm V, LLC; Meadow Lake Wind Farm VI, LLC | 3/31/2021
69307D | 1 | HCP | Blue Creek Wind Farm, LLC | 3/31/2021
PER0011567 | 0 | HCP | Union Electric Company | 5/14/2021
PER0014119 | 0 | HCP | Scout Clean Energy, LLC | 6/14/2021
PER0018464 | 0 | HCP | California Wind Energy, LLC | 8/6/2021
PER0026027 | 0 | HCP | Hanson Aggregates Midwest, Inc | 11/15/2021
105320 | 8 | Recovery | Tragus Environmental Consulting, Inc | 3/18/2021
144832 | 4 | Recovery | Detroit Zoological Society | 3/29/2021
07730A | 6 | Recovery | Redwing Ecological Services, Inc | 3/29/2021
70018D | 0 | Recovery | St. Louis River Alliance | 3/30/2021
98298A | 1 | Recovery | Ohio Environmental Protection Agency | 3/31/2021
PER0002431 | 0 | Recovery | Joseph Milanovich | 4/6/2021
73584A | 4 | Recovery | Illinois Natural History Survey | 4/19/2021
38856A | 6 | Recovery | Skelly and Loy, Inc | 4/22/2021
PER0003168 | 0 | Recovery | Corie Ereth | 4/28/2021
06130D | 2 | Recovery | Claudio Gratton | 5/4/2021
PER0003355 | 0 | Recovery | Josiah J. Maine | 5/6/2021
PER0003201 | 0 | Recovery | Braden A. Hoffman | 5/6/2021
63118D | 1 | Recovery | Clarissa Starbuck | 5/11/2021
71524B | 1 | Recovery | Theresa Burke | 5/11/2021
PER0011469 | 0 | Recovery | Consumers Energy | 5/12/2021
30472C | 2 | Recovery | Elaine Evans | 5/12/2021
33381D | 0 | Recovery | Neosho National Fish Hatchery | 5/18/2021
06778A | 5 | Recovery | USDA Forest Service-Shawnee National Forest | 5/20/2021
38842A | 7 | Recovery | Sanders Environmental, Inc | 5/21/2021
66724A | 3 | Recovery | Cleveland Metroparks | 5/24/2021
02373A | 15 | Recovery | Environmental Solutions and Innovations, Inc | 5/24/2021
PER0002967 | 0 | Recovery | Donald Solick | 5/27/2021
106220 | 7 | Recovery | Brianne Walters | 6/3/2021
53616C | 3 | Recovery | Illinois Natural History Survey | 6/3/2021
120231 | 5 | Recovery | John Timpone | 6/15/2021
15027A | 7 | Recovery | Stantec Consulting Services, Inc | 6/16/2021
697830 | 12 | Recovery | U.S. Fish and Wildlife Service | 6/18/2021
72093B | 2 | Recovery | Rebecca Winterringer | 6/25/2021
40247C | 2 | Recovery | Minnesota Department of Natural Resources | 6/25/2021
06809A | 6 | Recovery | USDA Forest Service | 6/29/2021
24566D | 1 | Recovery | Nicholas Smeenk | 7/2/2021
PER0003023 | 0 | Recovery | Samuel A. Schratz | 7/8/2021
31310A | 2 | Recovery | Minnesota Pollution Control Agency | 7/20/2021
28570D | 1 | Recovery | Midwest Natural Resources, Inc | 7/20/2021
206781 | 10 | Recovery | Ecoanalysts, Inc | 7/21/2021
PER0002332 | 0 | Recovery | Minnesota Department of Natural Resources, Center for Aquatic Mollusk Programs | 7/23/2021
64080B | 1 | Recovery | Michigan Natural Features Inventory-Michigan State University | 7/27/2021
PER0003405 | 0 | Recovery | Crystal A. Griffin | 7/27/2021
PER0003135 | 0 | Recovery | Katie Baker | 7/27/2021
PER0009788 | 0 | Recovery | Alma Schrage | 8/3/2021
PER0002544 | 0 | Recovery | Carlyn S. Rocazella | 8/3/2021
38860A | 4 | Recovery | Jason Garvon | 8/4/2021
PER0003893 | 0 | Recovery | Andres E. Ortega | 8/5/2021
PER0003114 | 0 | Recovery | Timothy J. Brust | 8/6/2021
70868B | 1 | Recovery | Brian Ortman | 8/6/2021
64239B | 2 | Recovery | Nathanael Light | 8/6/2021
PER0011726 | 0 | Recovery | North Fork Ridge Wind Holdings, LLC | 8/6/2021
07358A | 11 | Recovery | Civil and Environmental Consultants, Inc | 8/18/2021
PER0009122 | 0 | Recovery | Emily Grossman | 8/24/2021
PER0012955 | 0 | Recovery | Christopher Fill | 8/27/2021
14549C | 1 | Recovery | Larissa Herrera | 9/1/2021
11035A | 3 | Recovery | Bob Vande Kopple | 9/7/2021
31355B | 4 | Recovery | Brooke A. Hines | 9/8/2021
34563C | 2 | Recovery | Henry Campa | 9/14/2021
71737A | 4 | Recovery | Roger Klocek, LLC | 9/15/2021
135297 | 9 | Recovery | Saint Louis Zoological Park | 9/16/2021
77530A | 3 | Recovery | Douglas Kapusinski | 10/7/2021
72093B | 3 | Recovery | Rebecca Winterringer | 10/13/2021
38842A | 8 | Recovery | Sanders Environmental, Inc | 10/13/2021
151109 | 7 | Recovery | Ohio Department of Natural Resources | 10/13/2021
PER0011986 | 0 | Recovery | Lindsey N. Jakovljevic | 10/27/2021
99056B | 2 | Recovery | Marion Wells | 10/27/2021
206783 | 5 | Recovery | Marlo Perdicas | 10/28/2021
805269 | 16 | Recovery | Daniel Soluk | 11/17/2021
PER0015171 | 0 | Recovery | Cory Suski | 11/22/2021
65611B | 2 | Recovery | Dennis Skadsen | 11/24/2021
PER0016072 | 0 | Recovery | Brittany Rogness | 12/17/2021
06778A | 6 | Recovery | USDA Forest Service-Shawnee National Forest | 12/21/2021

Region 4 (Alabama, Arkansas, Florida, Georgia, Kentucky, Louisiana, Mississippi, North Carolina, South Carolina, Tennessee, the Commonwealth of Puerto Rico, and the U.S. Virgin Islands)

The following permits, sorted by type of permit or agreement and date issued in the table below, were applied for and issued by the Regional office responsible for section 10 permitting in the States and territories listed above.

HCPs and SHA

For more information about any of the following HCPs or SHA, contact the HCP Permit Coordinator by email at PermitsR4ES@fws.gov or by telephone at 404-679-7140.

Recovery Permits

For more information about any of the following recovery permits, contact the Recovery Permit Coordinator by email at PermitsR4ES@fws.gov or by telephone at 404-679-7140.

Permit No. | Version No. | Permit type | Permittee | Date issued
88303D | 0 | HCP | Smitherman-Malone Properties, LLC | 1/7/2021
84038C | 1 | HCP | Jimmy Stevens | 1/8/2021
80687D | 0 | HCP | Polk County Board of County Commissioners, Political Subdivision of State of Florida | 1/11/2021
79912D | 0 | HCP | Polk County (Political Subdivision of The State of Florida) | 1/11/2021
88288D | 0 | HCP | Cannonball Properties, LLC | 1/11/2021
PER0002059 | 0 | HCP | Thomas Panos | 1/14/2021
82107D | 0 | HCP | Palmetto Avon Park-Hwy 17, LLC | 1/28/2021
PER0002602 | 0 | HCP | Douglas K. Jones | 2/23/2021
33505D | 1 | HCP | Stephen D. Presley | 2/24/2021
42767C | 1 | HCP | Dale Delarber | 3/1/2021
PER0003358 | 0 | HCP | Thomas A. Gaghen | 3/19/2021
PER0002765 | 0 | HCP | Robert and Maria Schmidt | 3/19/2021
PER0003107 | 0 | HCP | Jeanne Hall | 3/22/2021
PER0004036 | 0 | HCP | Finlay Holdings, LLC | 3/25/2021
PER0002996 | 0 | HCP | John Lagrasse | 3/26/2021
48834D | 1 | HCP | Jeff Eldredge | 4/2/2021
54008D | 1 | HCP | Astonia North LLC | 4/7/2021
75501D | 1 | HCP | Larry Giggy | 4/8/2021
218292 | 1 | HCP | Steel Bridge Properties LLC | 4/9/2021
PER0009234 | 0 | HCP | LJW Properties, LLC | 4/16/2021
PER0003117 | 0 | HCP | Crosswood Enterprises, LLC | 4/23/2021
48931D | 0 | HCP | City of Orange Beach | 4/28/2021
56402D | 1 | HCP | Ivy Ridge, LLC | 4/30/2021
PER0009633 | 0 | HCP | Thomas Eubanks | 5/5/2021
PER0002583 | 0 | HCP | Gail K. Cardoso | 5/6/2021
078828 | 1 | HCP | Mark and Maria Frost | 5/6/2021
95386C | 1 | HCP | Shawn Locke | 5/6/2021
087068 | 2 | HCP | Steel Bridge Properties, LLC | 5/6/2021
58959C | 1 | HCP | Justin Daniels | 5/11/2021
PER0002540 | 0 | HCP | Lennar Homes, LLC | 5/28/2021
080087 | 1 | HCP | Mary Beth Prince | 6/1/2021
PER0002675 | 0 | HCP | EGR East, LLC | 6/10/2021
88352D | 0 | HCP | Forestar Group, Inc | 6/10/2021
PER0012932 | 0 | HCP | Anna Cain | 6/11/2021
28392D | 2 | HCP | Daniel Prickett | 6/17/2021
56446D | 1 | HCP | S&S Partnership, LLC | 6/17/2021
05890C | 1 | HCP | Daniel Prickett | 6/17/2021
PER0002676 | 0 | HCP | WP South Acquisition, LLC | 6/18/2021
PER0002632 | 0 | HCP | VK Avalon Groves, LLC | 6/18/2021
PER0002629 | 0 | HCP | BB Groves, LLC | 6/21/2021
64535A | 1 | HCP | Darrell Lawley | 7/8/2021
PER0014124 | 0 | HCP | Jay Brown | 7/13/2021
37575D | 1 | HCP | Lisa Lemay | 7/13/2021
PER0002583 | 1 | HCP | Gail K. Cardoso | 8/5/2021
PER0016349 | 0 | HCP | Stillwater Capital Assets, LLC | 8/5/2021
63420C | 1 | HCP | Elisa Sargent | 8/12/2021
PER0016398 | 0 | HCP | DJM Property, LLC | 8/13/2021
PER0018020 | 0 | HCP | Scott Green | 8/17/2021
PER0018438 | 0 | HCP | John C. Stevens | 8/26/2021
PER0007024 | 0 | HCP | Spring Grove, LLC | 9/14/2021
087068 | 3 | HCP | Troy Marion | 9/15/2021
PER0019383 | 0 | HCP | Sea and Sandcastles LLC | 9/16/2021
PER0020650 | 0 | HCP | Brian Spychalski | 9/22/2021
PER0020710 | 0 | HCP | Sean & Dawn Carmichael | 9/23/2021
093481 | 1 | HCP | Edward Lowe | 10/1/2021
218238 | 1 | HCP | Troy Titus | 10/13/2021
PER0006990 | 0 | HCP | PMDW Ventures, LLC | 10/14/2021
PER0022074 | 0 | HCP | David Green | 10/19/2021
PER0002663 | 0 | HCP | TSG Development, Inc | 10/20/2021
PER0024088 | 0 | HCP | Thomas Popee | 10/29/2021
PER0018441 | 0 | HCP | Acadian Designs, LLC | 11/12/2021
56449D | 0 | HCP | Mary Newcomb | 11/12/2021
131063 | 1 | HCP | Clyde M. Jones | 11/17/2021
PER0026701 | 0 | HCP | Robert Stephens | 12/1/2021
PER0023831 | 0 | HCP | Brian Reinhardt | 12/3/2021
078721 | 2 | HCP | Richard Weiner | 12/9/2021
156574 | 0 | HCP | William Fagan | 12/14/2021
PER0012932 | 1 | HCP | John Thomas | 12/21/2021
83156D | 0 | Recovery | Jake Schaefer | 1/5/2021
108584 | 7 | Recovery | Tim Nehus | 1/7/2021
56749B | 4 | Recovery | Patrick Moore | 1/12/2021
88402D | 0 | Recovery | Alex Pepper | 1/13/2021
41955C | 1 | Recovery | Anthony Miller | 1/13/2021
PER0002087 | 0 | Recovery | Alex Pepper | 1/20/2021
PER0002088 | 0 | Recovery | Jesus Lara | 1/21/2021
PER0002086 | 0 | Recovery | Marc Russack | 2/4/2021
PER0002090 | 0 | Recovery | Jennifer L. Oles | 2/8/2021
PER0002089 | 0 | Recovery | Michael Giaccone | 2/8/2021
78884D | 1 | Recovery | Thomas Gotcher | 2/25/2021
86020D | 1 | Recovery | Samuel Fava | 2/25/2021
86022D | 0 | Recovery | Matthew Harrell | 2/25/2021
83053D | 0 | Recovery | Steve Bostwick | 2/25/2021
56588D | 1 | Recovery | Martin Melville | 2/25/2021
88412D | 1 | Recovery | Michael Turner | 2/26/2021
88402D | 1 | Recovery | Alex Pepper | 2/26/2021
87084D | 0 | Recovery | Kyle Woodall | 2/26/2021
67197D | 1 | Recovery | Tyler Black | 3/4/2021
810274 | 13 | Recovery | ICF Jones and Stokes, Inc | 3/12/2021
PER0002077 | 0 | Recovery | Casey L. Geldine | 3/23/2021
PER0002626 | 0 | Recovery | Taylor Jones | 3/24/2021
85000D | 0 | Recovery | Francisco A. Abreu | 3/24/2021
PER0002900 | 0 | Recovery | John K. Maher | 3/25/2021
PER0002085 | 0 | Recovery | John T. Riley | 3/25/2021
66039A | 1 | Recovery | Arkansas Game and Fish Commission | 4/5/2021
PER0002859 | 0 | Recovery | Keegan T. Jones | 4/8/2021
PER0003042 | 0 | Recovery | Joe C. Monahan | 4/12/2021
070796 | 9 | Recovery | Apogee Environmental & Archaeological, Inc | 4/26/2021
PER0004422 | 0 | Recovery | Gulfarium Marine Adventure Park | 4/30/2021
PER0007803 | 0 | Recovery | Michael Lloret | 5/2/2021
087191 | 5 | Recovery | Sandhills Ecological Institute | 5/4/2021
PER0009347 | 0 | Recovery | Audrius Pauliukonis | 5/5/2021
72782D | 0 | Recovery | Michael Cove | 5/13/2021
02332D | 1 | Recovery | Michelle Gilley | 5/18/2021
PER0002976 | 0 | Recovery | Dilan Ekmark | 5/19/2021
86496D | 0 | Recovery | Mark Johnson | 5/24/2021
PER0005133 | 0 | Recovery | Michael Mills | 5/26/2021
56968D | 2 | Recovery | Kimberly Andrews | 6/2/2021
PER0002901 | 0 | Recovery | Christina Morton | 6/9/2021
PER0003655 | 0 | Recovery | Jari A. Valladares-Gomez | 6/10/2021
PER0002844 | 0 | Recovery | Ryan Merritt | 6/11/2021
71050D | 0 | Recovery | Brett Andersen | 6/23/2021
PER0014808 | 0 | Recovery | Stephen C. Wilder | 6/24/2021
PER0012531 | 0 | Recovery | Trevor Mann | 6/24/2021
125521 | 5 | Recovery | Department of Natural and Environmental Resources | 7/1/2021
PER0012946 | 0 | Recovery | S. Barns | 7/7/2021
59318D | 0 | Recovery | Marie Selby Botanical Gardens | 7/7/2021
083085 | 4 | Recovery | Archbold Biological Station | 7/8/2021
71653D | 0 | Recovery | The Nature Conservancy, Camp Shelby | 7/8/2021
38519A | 2 | Recovery | Cardno, Inc | 7/8/2021
07525D | 1 | Recovery | Bruce Porter | 7/9/2021
88796C | 1 | Recovery | Geological Survey of Alabama | 7/15/2021
PER0011752 | 0 | Recovery | William C. Kimmel | 7/19/2021
PER0009581 | 0 | Recovery | Stephen Cemelli | 7/20/2021
171493 | 3 | Recovery | Memphis Zoo | 7/22/2021
125521 | 6 | Recovery | Department of Natural and Environmental Resources | 7/23/2021
PER0002772 | 0 | Recovery | Auriel M. Fournier | 7/30/2021
PER0002011 | 0 | Recovery | University of Georgia | 8/2/2021
78084D | 0 | Recovery | Antone F. Pantaleo | 8/9/2021
PER0016467 | 0 | Recovery | Francisco A. Abreu | 8/9/2021
PER0015052 | 0 | Recovery | James P. Johnson | 8/9/2021
33465A | 2 | Recovery | USDA Forest Service National Forests in Alabama | 8/18/2021
016270 | 10 | Recovery | US Army Fort Benning, Natural Resources Management Branch | 8/30/2021
PER0015264 | 0 | Recovery | Colin Lindsey | 8/31/2021
PER0009372 | 0 | Recovery | Joe C. Monahan | 8/31/2021
21809A | 3 | Recovery | Monica Folk | 9/5/2021
75914D | 0 | Recovery | North Carolina State Parks | 9/5/2021
98596B | 2 | Recovery | Sarah Veselka | 9/6/2021
64232B | 1 | Recovery | Joshua Young | 9/6/2021
62026D | 1 | Recovery | Catherine Haase | 9/6/2021
37219B | 2 | Recovery | Roger Perry | 9/6/2021
80406D | 0 | Recovery | Michael Eubanks | 9/6/2021
88789B | 1 | Recovery | Sharon Davis | 9/13/2021
PER0004778 | 0 | Recovery | Catherine Jachowski | 9/13/2021
82659D | 0 | Recovery | Sarah J. Messer | 9/13/2021
12379D | 1 | Recovery | Robert McCleery | 9/23/2021
68616B | 2 | Recovery | Carla Atkinson | 9/27/2021
37652B | 1 | Recovery | Blue Ridge Parkway-National Park Service | 9/28/2021
83157D | 0 | Recovery | Matthew Miller | 9/29/2021
37652B | 2 | Recovery | Blue Ridge Parkway-National Park Service | 9/30/2021
PER0007314 | 0 | Recovery | Albert J. Leun | 9/30/2021
PER0010455 | 0 | Recovery | Kira Lindelof | 9/30/2021
83157D | 1 | Recovery | Matthew Miller | 10/6/2021
PER0024551 | 0 | Recovery | John T. Riley | 10/18/2021
35313B | 5 | Recovery | Emma Willcox | 10/28/2021
PER0021024 | 0 | Recovery | Daniel Ho-Sang | 11/3/2021
PER0020571 | 0 | Recovery | Robert T. Watts | 11/3/2021
34882A | 2 | Recovery | Mark A. Bailey | 11/12/2021
06337C | 1 | Recovery | Zachary Loughman | 12/7/2021
PER0021195 | 0 | Recovery | Phillip Wright | 12/8/2021
146919 | 1 | SHA | Daytona Beach Community College | 12/10/2021

Region 5 (Connecticut, Delaware, District of Columbia, Maine, Maryland, Massachusetts, New Hampshire, New Jersey, New York, Pennsylvania, Rhode Island, Vermont, Virginia, and West Virginia)

Recovery Permits

For more information about any of the following recovery permits, contact the Recovery Permit Coordinator by email at PermitsR5ES@fws.gov or by telephone at 413-253-8212.

Permit No. | Version No. | Permit type | Permittee | Date issued
18372D | 0 | Recovery | US Fish and Wildlife Service | 1/12/2021
70312D | 0 | Recovery | National Aquarium in Baltimore | 1/13/2021
69330D | 0 | Recovery | Allied Whale, College of the Atlantic | 1/13/2021
69329D | 0 | Recovery | Marine Mammals of Maine | 1/13/2021
60921D | 0 | Recovery | Zoological Society of Pittsburgh | 1/13/2021
60928D | 0 | Recovery | National Marine Life Center | 1/13/2021
60406D | 0 | Recovery | Atlantic Marine Conservation Society | 1/13/2021
60418D | 0 | Recovery | Marine Mammal Stranding Center | 1/13/2021
60419D | 0 | Recovery | MERR, Inc | 1/13/2021
69328D | 0 | Recovery | New England Aquarium | 1/13/2021
60434D | 0 | Recovery | Sea Turtle Recovery | 1/13/2021
60422D | 0 | Recovery | Sea Research Foundation | 1/13/2021
60415D | 0 | Recovery | Mass Audubon Wellfleet Bay Wildlife Sanctuary | 1/13/2021
82615D | 0 | Recovery | Downeast Salmon Federation | 2/11/2021
01086D | 2 | Recovery | Virginia Department of Wildlife Resources | 3/15/2021
69328D | 1 | Recovery | New England Aquarium | 4/12/2021
60422D | 1 | Recovery | Sea Research Foundation | 4/21/2021
69332D | 0 | Recovery | Maine Department of Marine Resources | 5/3/2021
70044D | 0 | Recovery | Virginia Aquarium & Marine Science Center Foundation, Inc | 5/18/2021
61005D | 1 | Recovery | Mark Hepner | 5/31/2021
70311D | 0 | Recovery | Riverhead Foundation for Marine Research and Preservation | 6/11/2021
PER0002735 | 0 | Recovery | Jonathan A. Studio | 7/28/2021
PER0019000 | 0 | Recovery | Matthew Lobdell | 9/1/2021
60415D | 1 | Recovery | Mass Audubon Wellfleet Bay Wildlife Sanctuary | 10/18/2021
60928D | 1 | Recovery | National Marine Life Center | 10/25/2021
60921D | 1 | Recovery | Zoological Society of Pittsburgh | 10/26/2021
69332D | 1 | Recovery | Maine Department of Marine Resources | 11/2/2021
PER0002181 | 0 | Recovery | Paul L. Angermeier | 11/23/2021

Region 6 (Colorado, Kansas, Montana, Nebraska, North Dakota, South Dakota, Utah, and Wyoming)

The following permits, sorted by type of permit or agreement and date issued in the table below, were applied for and issued by the Regional office responsible for section 10 permitting in the States listed above.

HCPs and SHAs

For more information about any of the following HCP or SHA permits, contact the HCP or SHA Permit Coordinator by telephone at 303-236-7905. An additional permit number 89824D version 0 for an HCP was issued to TransCanada Keystone Pipeline, L.P., on January 8, 2021, but was relinquished by the permittee and canceled as of July 26, 2021.

Recovery Permits

For more information about any of the following recovery permits, contact the Recovery Permit Coordinator by email at PermitsR6ES@fws.gov, or by telephone at 303-236-4224.

Permit No. | Version No. | Permit type | Permittee | Date issued
036719 | 1 | HCP | Washington County, Utah | 1/15/2021
PER0010672 | 0 | HCP | Green Diamond Resource Company | 5/7/2021
034609 | 5 | HCP | SPP Montana, LLC | 5/7/2021
PER0001907 | 0 | Recovery | Timothy C. Vosburgh | 1/20/2021
PER0003897 | 0 | Recovery | Bureau of Land Management-Monticello Office | 3/24/2021
PER0002640 | 0 | Recovery | Rana Environmental Consulting, Inc | 3/24/2021
PER0009566 | 0 | Recovery | Colorado Natural Heritage Program, Colorado State University | 4/14/2021
PER0011233 | 0 | Recovery | Montana State University | 5/3/2021
PER0011688 | 0 | Recovery | BLM Utah, Richfield Field office | 5/10/2021
35101D | 0 | Recovery | Schmueser Gordon Meyer, Inc | 5/27/2021
067482 | 2 | Recovery | Colorado Department of Transportation | 6/1/2021
040834 | 3 | Recovery | Boulder County Parks and Open Space | 6/3/2021
PER0013492 | 0 | Recovery | United Tribes Technical College | 6/8/2021
PER0007334 | 0 | Recovery | University of Wyoming | 6/10/2021
047283 | 2 | Recovery | Washington State University | 7/7/2021
PER0016372 | 0 | Recovery | William Wyatt Hoback | 7/13/2021
PER0004552 | 0 | Recovery | Zion National Park | 7/23/2021
PER0014876 | 0 | Recovery | DJ&A, P.C | 7/23/2021
PER0012961 | 0 | Recovery | Fort Hays State University | 8/2/2021
PER0002968 | 0 | Recovery | Omaha's Henry Doorly Zoo & Aquarium | 8/20/2021
085324 | 3 | Recovery | Wyoming Natural Diversity Database-Botany Department | 9/1/2021
PER0022766 | 0 | Recovery | Rocksol Consulting Group | 9/28/2021
054237 | 3 | Recovery | USDA Forest Service Rocky Mountain Region | 10/12/2021
061680 | 2 | Recovery | City of Boulder Open Space and Mountain Parks | 10/13/2021
79842A | 3 | Recovery | Jeremy White | 10/27/2021
39716C | 1 | Recovery | Jason Beason | 12/13/2021
PER0025957 | 0 | Recovery | Julie Remp | 12/13/2021
PER0028923 | 0 | Recovery | Jordan McMahon | 12/27/2021
13024B | 2 | Recovery | Bureau of Land Management | 12/27/2021
PER0025746 | 0 | SHA | Kansas Department of Wildlife and Parks | 12/16/2021

Region 7 (Alaska)

The following permits were applied for and issued by the Regional office responsible for section 10 permitting in Alaska. For more information about these recovery permits, contact the Permit Coordinator by email at PermitsR7ES@fws.gov or by telephone at 907-786-3323.

Permit No. | Version No. | Permit type | Permittee | Date issued
36906D | 1 | Recovery | University of Alaska, Fairbanks: Institute of Arctic Biology | 3/9/2021
PER0010687 | 0 | Recovery | ABR, Inc.—Environmental Research & Services | 5/3/2021

Region 8 (California, Nevada, and the Klamath Basin Portion of Oregon)

The following permits, sorted by type of permit or agreement and date issued in the table below, were applied for and issued by the Regional office responsible for section 10 permitting in the States and region listed above.

HCPs

For more information about any of the following HCP permits, contact the HCP Permit Coordinator by email at ITEOSpermitsR8ES@fws.gov.

Recovery Permits

For more information about any of the following recovery permits, contact the Recovery Permit Coordinator by email at PermitsR8ES@fws.gov or by telephone at 916-414-6464.

Permit No. | Version No. | Permit type | Permittee | Date issued
PER0003845 | 0 | HCP | Gridliance | 3/5/2021
PER0003714 | 0 | HCP | Spring Mountain Raceway, LLC | 3/5/2021
PER0004040 | 0 | HCP | East Bay Municipal Utility District | 3/19/2021
PER0004039 | 0 | HCP | Morgan Krapes-Kiah | 3/29/2021
PER0013273 | 0 | HCP | Manzana Wind, LLC | 6/8/2021
PER0014875 | 0 | HCP | Althouse and Meade, Inc | 7/12/2021
PER0016083 | 0 | HCP | Serenity Gypsy Canyon, LLC | 7/14/2021
PER0019080 | 0 | HCP | Vintage Ranch Orcutt, LLC | 8/16/2021
80620D | 1 | HCP | Andris Upitis | 9/23/2021
78131D | 2 | HCP | Sun Valley Ranch, LLC | 10/28/2021
PER0026639 | 0 | HCP | Morgan Krapes-Kiah | 11/23/2021
62432B | 1 | Recovery | Sean Mcallister | 2/12/2021
83425D | 0 | Recovery | Scott Soares | 1/8/2021
84091D | 0 | Recovery | Mike Stake | 1/8/2021
77118D | 0 | Recovery | Kristen Outten | 1/8/2021
77125D | 0 | Recovery | Zachary Cava | 1/8/2021
75312D | 0 | Recovery | Ricka Stoelting | 1/8/2021
54728A | 2 | Recovery | San Francisco Recreation and Parks Department | 1/8/2021
73946B | 2 | Recovery | Austin Parker | 1/9/2021
72571C | 1 | Recovery | Hiram Herrera | 1/9/2021
84165D | 0 | Recovery | Kaia Colestock | 1/9/2021
84156D | 0 | Recovery | Stephen Gergeni | 1/9/2021
225970 | 1 | Recovery | Charlotte Marks | 1/9/2021
115370 | 6 | Recovery | Gage Dayton | 1/9/2021
50510A | 6 | Recovery | Geoffrey Cline | 1/10/2021
14532C | 1 | Recovery | Hannah Donaghe | 1/10/2021
72045A | 3 | Recovery | Alisa Zych | 1/22/2021
88650D | 0 | Recovery | Joshua Goodwin | 1/22/2021
108507 | 0 | Recovery | USFWS, California-Great Basin Region (Legacy Region 8) | 12/12/2021
829554 | 0 | Recovery | Barbara Kus | 3/5/2021
40211B | 0 | Recovery | Melissa Newman | 3/10/2021
807078 | 19 | Recovery | Point Reyes Bird Observatory | 3/22/2021
PER0003712 | 0 | Recovery | Ryan O'Donnell | 3/22/2021
64546A | 4 | Recovery | Power Engineers, Inc | 3/23/2021
77120D | 0 | Recovery | Imani Russell | 3/23/2021
75190D | 0 | Recovery | Rory Telemeco | 3/29/2021
809232 | 19 | Recovery | Bio-West, Inc | 3/31/2021
067064 | 4 | Recovery | Lindsay Messett | 3/31/2021
PER0002114 | 0 | Recovery | Scott K. Whitman | 3/31/2021
63313D | 1 | Recovery | Tiffany Alvarez | 4/2/2021
067064 | 5 | Recovery | Lindsay Messett | 4/6/2021
94998A | 2 | Recovery | Leonard Liu | 4/6/2021
057043 | 6 | Recovery | Green Diamond Resource Company | 4/6/2021
PER0008918 | 0 | Recovery | Melissa Tu | 4/21/2021
817400 | 13 | Recovery | East Bay Regional Park District | 4/28/2021
67253D | 1 | Recovery | Sequoia Park Zoo/City of Eureka | 5/17/2021
768251 | 16 | Recovery | Biosearch Associates | 5/20/2021
163017 | 2 | Recovery | California Department of Fish and Wildlife | 5/26/2021
PER0002935 | 0 | Recovery | Christopher Cummings | 5/26/2021
08293C | 1 | Recovery | Travis Marella | 6/14/2021
PER0002166 | 0 | Recovery | Danielle Dillard | 6/17/2021
PER0002933 | 0 | Recovery | Jordan Zylstra | 6/23/2021
PER0003167 | 0 | Recovery | Elyssa K. Robertson | 6/25/2021
PER0002902 | 0 | Recovery | Carolynn Honeycutt | 6/25/2021
PER0004121 | 0 | Recovery | Mulligan Biological Consulting | 6/25/2021
PER0002932 | 0 | Recovery | USGS WERC Coastal Ecology | 6/28/2021
PER0002928 | 0 | Recovery | Fresno Chaffee Zoo | 6/28/2021
PER0003749 | 0 | Recovery | David Cook | 6/29/2021
PER0003763 | 0 | Recovery | Daniel Cooper | 6/30/2021
PER0003722 | 0 | Recovery | James Hickman | 6/30/2021
PER0003214 | 0 | Recovery | Monica Alfaro | 6/30/2021
PER0003728 | 0 | Recovery | Tim Bean | 6/30/2021
PER0014481 | 0 | Recovery | Hoopa Valley Tribal Council | 7/1/2021
PER0003898 | 0 | Recovery | Robert Hamilton | 7/9/2021
PER0003852 | 0 | Recovery | Daniel Cordova | 7/9/2021
PER0007536 | 0 | Recovery | Linette Davenport | 7/12/2021
PER0008920 | 0 | Recovery | Meghan R. Bishop | 7/12/2021
PER0002866 | 0 | Recovery | Darren R. Wiemeyer | 8/10/2021
039321 | 5 | Recovery | Kylie Fischer | 8/10/2021
PER0012535 | 0 | Recovery | Laura Gorman | 8/11/2021
PER0010680 | 0 | Recovery | David Moskovitz | 8/11/2021
134338 | 4 | Recovery | Brenna Ogg | 8/11/2021
PER0004071 | 0 | Recovery | Sharon Dulava | 8/11/2021
63371B | 1 | Recovery | Rheanna Neidinger | 8/11/2021
PER0011950 | 0 | Recovery | Olberding Environmental | 8/11/2021
834492 | 6 | Recovery | Julie Thomas | 8/11/2021
PER0003977 | 0 | Recovery | Cassandra J. Carroll | 8/11/2021
135948 | 3 | Recovery | Natalie Brodie | 8/11/2021
PER0008931 | 0 | Recovery | Danna Hinderle | 8/11/2021
057714 | 3 | Recovery | Dawn Reis | 8/12/2021
PER0010754 | 0 | Recovery | Rebecca E. Green | 10/5/2021
163671 | 4 | Recovery | Ryan O'Dell | 10/26/2021
PER0002526 | 0 | Recovery | San Diego Zoo Wildlife Alliance | 11/1/2021
PER0003725 | 0 | Recovery | Melanie C. Madden | 11/4/2021
052159 | 6 | Recovery | Jeffrey Ahrens | 11/23/2021
PER0008376 | 0 | Recovery | Mark L. Noyes | 12/22/2021

Availability of Documents

You may request copies of the Federal Register documents publishing the receipt of applications for these permits from the office that issued the permit (see contact information above). Documents and other information submitted with these applications are available for review subject to the requirements of the Privacy Act (5 U.S.C. 552a) and Freedom of Information Act (5 U.S.C. 552), by any party who submits a written request for a copy of such documents.

Authority

We provide this notice under the authority of section 10 of the ESA (16 U.S.C. 1531 et seq.).

Gary Frazer,
Assistant Director for Ecological Services.

[FR Doc. 2022-14203 Filed 7-1-22; 8:45 am]

BILLING CODE 4333-15-P